DEPARTMENT OF TRANSPORTATION

Federal Aviation Administration

14 CFR Part 39

[Docket No. FAA-2005-21714; Directorate Identifier 2005-NM-065-AD; Amendment 39-14374; AD 2005-23-16]

RIN 2120-AA64

Airworthiness Directives; Boeing Model 737-600, -700, -700C, -800, and -900 Series Airplanes

AGENCY: Federal Aviation Administration (FAA), Department of Transportation (DOT).

ACTION: Final rule.

SUMMARY: The FAA is adopting a new airworthiness directive (AD) for certain Boeing Model 737-600, -700, -700C, -800, and -900 series airplanes. This AD requires modification of certain wire bundles located above the center fuel tank. This AD results from fuel system reviews conducted by the manufacturer. We are issuing this AD to prevent chafed wire bundles near the center fuel tank, which could cause electrical arcing through the tank wall and ignition of fuel vapor in the fuel tank, and result in a fuel tank explosion.

DATES: This AD becomes effective December 21, 2005.

The Director of the Federal Register approved the incorporation by reference of a certain publication listed in the AD as of December 21, 2005.

ADDRESSES: You may examine the AD docket on the Internet at http://dms.dot.gov or in person at the Docket Management Facility, U.S. Department of Transportation, 400 Seventh Street SW., Nassif Building, room PL-401, Washington, DC.

Contact Boeing Commercial Airplanes, P.O. Box 3707, Seattle, Washington 98124-2207, for service information identified in this AD.

FOR FURTHER INFORMATION CONTACT: Binh Tran, Aerospace Engineer, Systems and Equipment Branch, ANM-130S, FAA, Seattle Aircraft Certification Office, 1601 Lind Avenue, SW., Renton, Washington 98055-4056; telephone (425) 917-6485; fax (425) 917-6590.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Boeing Model 737-600, -700, -700C, -800, and -900 series airplanes. That NPRM was published in the Federal Register on July 5, 2005 (70 FR 38636). That NPRM proposed to require modification of certain wire bundles located above the center fuel tank.

Comments

We provided the public the opportunity to participate in the development of this AD. We have considered the comments received.

Request for Clarification of Correct Type of Material for Lacing Tape

One commenter states that the service bulletin referenced in the NPRM identifies an incorrect type of material for the lacing tape used to tie the subject wire bundles. The commenter reiterates the information in the service bulletin and notes that the material identified therein does not exist. The commenter asks for clarification of the correct type of material for the lacing tape.

We agree with the commenter that clarification is necessary. This AD now identifies the correct type of material for the lacing tape for which an incorrect material was specified in the service bulletin. Lacing tape part number (P/N) BMS 13-54, having Type I, Class 2, Finish C, Grade D, shown in sheet 3 of Figures 5 and 6 of the Accomplishment Instructions of the service bulletin, does not exist; the correct material is BMS 13-54, having Type II, Class 1, Finish D/C, Grade D, white or Type III, Class 1, Finish C, Grade D, white, any size. The manufacturer is aware of this discrepancy, agrees with the change, and has issued Boeing Information Notice (IN) 737-28-1209 IN 01, dated July 28, 2005, to inform operators of the error. We have included this information in paragraph (f) of this AD.

Request To Increase Work Hours

One commenter asks that the work hours specified to accomplish the modification be increased. The commenter states that the referenced service bulletin shows the work hours necessary as 40, but the NPRM specifies only 4 work hours.

We do not agree. The estimate of 40 work hours specified in the service bulletin includes time for gaining access and closing up. The cost analysis in AD rulemaking actions, however, typically does not include costs such as the time required to gain access and close up, time necessary for planning, or time necessitated by other administrative actions. Those incidental costs may vary significantly among operators and are almost impossible to calculate. We recognize that, in doing the actions required by an AD, operators may incur incidental costs in addition to the direct costs. However, the estimate of 4 work hours, as proposed and as specified in this AD, represents the time necessary to perform only the actions actually required by this AD. We have not changed the AD in this regard.

Clarification of Alternative Method of Compliance (AMOC) Paragraph

We have changed this AD to clarify the appropriate procedure for notifying the principal inspector before using any approved AMOC on any airplane to which the AMOC applies.

Conclusion

We have carefully reviewed the available data, including the comments received, and determined that air safety and the public interest require adopting the AD with the changes described previously. We have determined that these changes will neither increase the economic burden on any operator nor increase the scope of the AD.

Costs of Compliance

There are about 1,636 airplanes of the affected design in the worldwide fleet. This AD affects about 650 airplanes of U.S. registry. The modification takes about 4 work hours per airplane, at an average labor rate of $65 per work hour. Required parts cost about $1,446 per airplane. Based on these figures, the estimated cost of the AD for U.S. operators is $1,108,900, or $1,706 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-23-16 Boeing: Amendment 39-14374. Docket No. FAA-2005-21714; Directorate Identifier 2005-NM-065-AD.

Effective Date

(a) This AD becomes effective December 21, 2005.

Affected ADs

(b) None.

Applicability

(c) This AD applies to Boeing Model 737-600, -700, -700C, -800, and -900 series airplanes; certificated in any category; as identified in Boeing Service Bulletin 737-28-1209, dated February 17, 2005.

Unsafe Condition

(d) This AD was prompted by the results of fuel system reviews conducted by the manufacturer. We are issuing this AD to prevent chafed wire bundles near the center fuel tank, which could cause electrical arcing through the tank wall and ignition of fuel vapor in the fuel tank, and result in a fuel tank explosion.

Compliance

(e) You are responsible for having the actions required by this AD performed within the compliance times specified, unless the actions have already been done.

Modification

(f) Within 60 months after the effective date of this AD: Modify the wire bundles located below the passenger compartment, above the center fuel tank, aft of station (STA) 540 through STA 601 inclusive, at right buttock line and left buttock line 24.82 in accordance with the Accomplishment Instructions of Boeing Service Bulletin 737-28-1209, dated February 17, 2005. Lacing tape part number (P/N) BMS 13-54, having Type I, Class 2, Finish C, Grade D, shown in sheet 3 of Figures 5 and 6 of the Accomplishment Instructions of the service bulletin, does not exist; the correct material is BMS 13-54, having Type II, Class 1, Finish D/C, Grade D, white, or Type III, Class 1, Finish C, Grade D, white, any size.

Alternative Methods of Compliance (AMOCs)

(g)(1) The Manager, Seattle Aircraft Certification Office, FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Material Incorporated by Reference

(h) You must use Boeing Service Bulletin 737-28-1209, dated February 17, 2005, to perform the actions that are required by this AD, unless the AD specifies otherwise. The Director of the Federal Register approved the incorporation by reference of this document in accordance with 5 U.S.C. 552(a) and 1 CFR part 51. Contact Boeing Commercial Airplanes, P.O. Box 3707, Seattle, Washington 98124-2207, for a copy of this service information. You may review copies at the Docket Management Facility, U.S. Department of Transportation, 400 Seventh Street, SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on November 7, 2005.
Kalene C. Yanamura,
Acting Manager, Transport Airplane Directorate, Aircraft Certification Service.

[FR Doc. 05-22593 Filed 11-15-05; 8:45 am]

BILLING CODE 4910-13-P